DEPARTMENT OF COMMERCE

National Oceanic and Atmospheric Administration

[RTID 0648-XF552]

Gulf Fishery Management Council; Public Meeting

AGENCY: National Marine Fisheries Service (NMFS), National Oceanic and Atmospheric Administration (NOAA), Commerce.

ACTION: Notice of a public meeting.

SUMMARY: The Gulf Fishery Management Council will hold a half-day virtual meeting of its Shrimp Advisory Panel (AP).

DATES: The meeting will convene Monday, March 9, 2026, 9 a.m.-1 p.m., EDT. For agenda details, see SUPPLEMENTARY INFORMATION.

ADDRESSES: The meeting will be held virtually. Registration information will be available on the Council's website by visiting https://www.gulfcouncil.org and clicking on the Shrimp AP meeting on the calendar.

Council address: Gulf Fishery Management Council, 4107 W Spruce Street, Suite 200, Tampa, FL 33607; telephone: (813) 348-1630.

FOR FURTHER INFORMATION CONTACT: Dr. Matt Freeman, Economist, Gulf Fishery Management Council; matt.freeman@gulfcouncil.org, telephone: (813) 348-1630.

SUPPLEMENTARY INFORMATION: The following items are on the agenda, though agenda items may be addressed out of order (changes will be noted on the Council's website when possible.)

Monday, March 9, 2026; 9 a.m.-1 p.m. EDT

The virtual meeting will begin with Introduction of Members, Adoption of Agenda, Approval of Summary from March 4, 2025 Meeting, and Scope of Work. The AP will review and discuss Council Actions in Response to Motions from the March 2025 Shrimp AP Meeting and receive a snapshot of Shrimp Stock Assessment and SSC recommendations. The AP will also receive updates on Gulf and Import Shrimp Prices and on 2024 Gulf Shrimp Fishery Landings, and review the 2025 Texas Closure and 2024 Royal Red Landings.

The AP will review Congressional Funding of Data Collection, receive any public testimony and discuss other business items.

Meeting Adjourns—

This is a virtual only meeting. You may register by visiting https://www.gulfcouncil.org and clicking on the Shrimp Advisory Panel meeting on the calendar.

The Agenda is subject to change, and the latest version along with other meeting materials will be posted on https://www.gulfcouncil.org as they become available.

Although other non-emergency issues not on the agenda may come before the Advisory Panel for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take-action to address the emergency at least 5 working days prior to the meeting.

Special Accommodations

These meetings are physically accessible to people with disabilities. Requests for sign language interpretation or other auxiliary aid or accommodations should be directed to Kathy Pereira, kathy.pereira@gulfcouncil.org, at least 5 days prior to the meeting date.

(Authority: 16 U.S.C. 1801 et seq.)

Dated: February 17, 2026.
Becky J. Curtis,
Acting Deputy Director, Office of Sustainable Fisheries, National Marine Fisheries Service.

[FR Doc. 2026-03302 Filed 2-18-26; 8:45 am]

BILLING CODE 3510-22-P